DEPARTMENT OF HEALTH AND HUMAN SERVICES

Centers for Disease Control and Prevention

Board of Scientific Counselors, Center for Preparedness and Response, (BSC, CPR); Amended Notice of Meeting

Notice is hereby given of a change in the meeting of the Board of Scientific Counselors, Center for Preparedness and Response, (BSC, CPR); January 23, 2020, 12:30 p.m. to 5:00 p.m., EST and January 24, 2020, 8:30 a.m. to 2:30 p.m., EST. Centers for Disease Control and Prevention (CDC), Global Communications Center, Building 19, Auditorium B3, 1600 Clifton Road NE, Atlanta, Georgia 30329-4027, which was published in the Federal Register on December 6, 2019, Volume 84, Number 235, page 66906.

The meeting is being amended to a one-day meeting on January 24, 2020, 8:40 a.m. to 4:00 p.m., EST. The agenda will include: Updates from the CPR Director and CPR Division Directors, Report from the Biological Agent Containment Working Group (BACWG), and Progress Update on the Graduated Response Framework. The meeting is open to the public.

FOR FURTHER INFORMATION CONTACT: Dometa Ouisley, Office of Science and Public Health Practice, CDC, 1600 Clifton Road NE, Mailstop H21-6, Atlanta, Georgia 30329-4027; Telephone: (404) 639-7450; Fax: (404) 471-8772; Email: OPHPR.BSC.Questions@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-00749 Filed 1-16-20; 8:45 am]

BILLING CODE 4163-18-P